NUCLEAR REGULATORY COMMISSION

[Docket No. 50-548; NRC-2020-0090]

Entergy Operations Inc.; River Bend Station, Unit 1

AGENCY: Nuclear Regulatory Commission.

ACTION: License amendment application; withdrawal by applicant.

SUMMARY: The U.S. Nuclear Regulatory Commission (NRC) has granted the request of Entergy Operations, Inc. (Entergy, the licensee) to withdraw its application dated March 23, 2020, for a proposed amendment to River Bend Station, Unit 1 (River Bend), Renewed Facility Operating License No. NPF-47. The proposed amendment would have extended the implementation date for Amendment No. 197 to upgrade the River Bend Emergency Action Level scheme based on Nuclear Energy Institute (NEI) 99-01, Revision 6, “Development of Emergency Action Levels for Non-Passive Reactors,” from May 13, 2020, to September 30, 2020, due to the ongoing COVID-19 pandemic and the resulting impact on the station.

DATES: May 27, 2020.

ADDRESSES: Please refer to Docket ID NRC-2020-0090 when contacting the NRC about the availability of information regarding this document. You may obtain publicly-available information related to this document using any of the following methods:

• Federal Rulemaking website: Go to https://www.regulations.gov and search for Docket ID NRC-2020-0090. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

FOR FURTHER INFORMATION CONTACT: Thomas J. Wengert, Office of Nuclear Reactor Regulation, U.S. Nuclear Regulatory Commission, Washington, DC 20555-0001; telephone: 301-415-4037, email: Thomas.Wengert@nrc.gov.

SUPPLEMENTARY INFORMATION: The NRC has granted the request of Entergy to withdraw its March 23, 2020, application (ADAMS Accession No. ML20083N719) for a proposed amendment to River Bend, Renewed Facility Operating License No. NPF-47, located in West Feliciana Parish, Louisiana.

The proposed amendment would have extended the implementation date for Amendment No. 197 (ADAMS Accession No. ML19070A062), which approved a revision to the River Bend Emergency Plan to revise the emergency action level scheme to one based on the NEI document NEI 99-01, Revision 6, “Development of Emergency Action Levels for Non-Passive Reactors,” from May 13, 2020, to September 30, 2020, due to the ongoing COVID-19 pandemic and the resulting impact on the station.

This proposed amendment request was noticed in the Federal Register on April 2, 2020 (85 FR 18590). Entergy requested to withdraw the request by letter dated April 24, 2020 (ADAMS Accession No. ML20115E516).

Dated: May 21, 2020.
For the Nuclear Regulatory Commission.
Thomas J. Wengert,
Senior Project Manager, Plant Licensing Branch IV, Division of Operating Reactor Licensing, Office of Nuclear Reactor Regulation.

[FR Doc. 2020-11313 Filed 5-26-20; 8:45 am]

BILLING CODE 7590-01-P